DEPARTMENT OF THE INTERIOR

Fish and Wildlife Service

50 CFR Part 17

[Docket No. FWS-R8-ES-2016-0127; FXES11130900000 167 FF09E42000]

RIN 1018-BB39

Endangered and Threatened Wildlife and Plants; Removing Trichostema austromontanum ssp. compactum (Hidden Lake Bluecurls) From the Federal List of Endangered and Threatened Plants

AGENCY: Fish and Wildlife Service, Interior.

ACTION: Proposed rule; reopening of the comment period.

SUMMARY: We, the U.S. Fish and Wildlife Service (Service), announce that we are reopening the comment period for the proposed rule to remove the plant Trichostema austromontanum ssp. compactum (Hidden Lake bluecurls) from the Federal List of Endangered and Threatened Plants on the basis of recovery. We are reopening the comment period for this proposed rule for 30 days in order to publish a legal notice and to give all interested parties further opportunity to comment on the proposed rule. Comments previously submitted need not be resubmitted, as they will be fully considered in preparing the final delisting determination.

DATES: The comment period on the proposed rule that published January 5, 2017 (82 FR 1297), is reopened. We will accept comments received or postmarked on or before December 1, 2017.

ADDRESSES: Comment submission: You may submit comments by one of the following methods:

(1) Electronically: Go to the Federal eRulemaking Portal: http://www.regulations.gov. In the Search box, enter FWS-R8-ES-2016-0127, which is the docket number for this rulemaking. Then click on the Search button. On the resulting page, in the Search panel on the left side of the screen, under the Document Type heading, click on the Proposed Rules link to locate this document. You may submit a comment by clicking on “Comment Now!”.

(2) By hard copy: Submit by U.S. mail or hand-deliver to: Public Comments Processing, Attn: Docket No. FWS-R8-ES-2016-0127, U.S. Fish and Wildlife Service, MS: BPHC; 5275 Leesburg Pike, Falls Church, VA 22041-3803. We request that you send comments only by the methods described above. We will post all comments on http://www.regulations.gov. This generally means that we will post any personal information you provide us.

Document availability: A copy of the draft post-delisting monitoring plan referenced throughout the proposed rule can be viewed at http://ecos.fws.gov/ecp0/profile/speciesProfile?sId=1285, at http://www.regulations.gov under Docket No. FWS-R8-ES-2016-0127, or at the Carlsbad Fish and Wildlife Office's Web site at http://www.fws.gov/Carlsbad/.

FOR FURTHER INFORMATION CONTACT: G. Mendel Stewart, Field Supervisor, Carlsbad Fish and Wildlife Office, 2177 Salk Avenue, Suite 250, Carlsbad, CA 92008; telephone 760-431-9440; facsimile (fax) 760-431-5901. If you use a telecommunications device for the deaf (TDD), call the Federal Relay Service at 800-877-8339.

SUPPLEMENTARY INFORMATION: On January 5, 2017, we published a proposed rule to remove the plant Trichostema austromontanum ssp. compactum (Hidden Lake bluecurls) from the Federal List of Endangered and Threatened Plants on the basis of recovery (82 FR 1297). We sought information, data, and comments from the public regarding the proposal for 60 days, ending March 6, 2017. We are reopening the comment period on the proposed rule for an additional 30 days (see DATES). We will accept written comments and information during this reopened comment period. Please refer to the proposed rule for more information on our proposed action and the specific information we seek.

You may submit your comments and materials by one of the methods listed in ADDRESSES. Before including your address, phone number, email address, or other personal identifying information in your comment, you should be aware that your entire comment—including your personal identifying information—may be made publicly available at any time. All comments and recommendations, including names and addresses, will become part of the administrative record.

If you submit information via http://www.regulations.gov, your entire comment—including any personal identifying information—will be posted on the Web site. While you can ask us in your comment to withhold your personal identifying information from public review, we cannot guarantee that we will be able to do so.

If you mail or hand-deliver a hardcopy comment that includes personal identifying information, you may request at the top of your document that we withhold this information from public review, but we cannot guarantee that we will be able to do so. To ensure that the electronic docket for this rulemaking is complete and all comments we receive are publicly available, we will post all hardcopy submissions on http://www.regulations.gov.

Authors

The primary author of this document is the Carlsbad Fish and Wildlife Office in Carlsbad, California, in coordination with the Pacific Southwest Regional Office in Sacramento, California.

Authority

The Endangered Species Act of 1973, as amended (16 U.S.C. 1531 et seq.) is the authority for this action.

Dated: September 15, 2017.
James W. Kurth,
Acting Director, U.S. Fish and Wildlife Service.

[FR Doc. 2017-23711 Filed 10-31-17; 8:45 am]

BILLING CODE 4333-15-P